DEPARTMENT OF HEALTH AND HUMAN SERVICES

National Institutes of Health

Statement of Organization, Functions, and Delegations of Authority

Part N, National Institutes of Health (NIH), of the Statement of Organization, Functions, and Delegations of Authority for the Department of Health and Human Services (DHHS) (40 FR 22859, May 27, 1975, as amended most recently at 71 FR 1446, January 9, 2006, and redesignated from Part HN as Part N at 60 FR 56605, November 9, 1995), is amended as set forth below to reflect the transfer of the bioengineering and physical science functions from the Office of the Director, Office of Management, Office of Research Services (NAM5, formerly HNAM5), to the National Institute of Biomedical Imaging and Bioengineering (N8, formerly HN8).

Section N-B, Organization and Functions, is amended by replacing the current section N86 (formerly HN86) with the following:

Intramural Research Programs (N86, formerly HN86). Responsible for all aspects of NIBIB intramural research, including staffing, facilities, and research programs. Also includes the Laboratory of Bioengineering and Physical Science, which contributes to the advancement of NIH research by the application of engineering, mathematics, and the physical sciences to the solution of problems in biology and medicine through (1) consultations and collaborative research with NIH intramural scientists in the areas of measurement, imaging, mathematical analysis, and modeling and the design of specialized research protocols and equipment; (2) proposing and developing theoretical and experimental methods, including novel instrumentation, to meet long-term needs of the NIH Intramural Research Program; and (3) serving as a liaison to other NIH and non-NIH organizations with bioengineering and physical science expertise to obtain and disseminate information on technological resources and development applicable to NIH intramural research problems.

Section N-B, Organization and Functions, under the heading “Office of Research Services (NAM5, formerly HNAM5)” is amended as follows:

Delete the “Division of Bioengineering and Physical Science (NAM58, formerly HNAM58)” in its entirety.

Delegations of Authority Statement: All delegations and redelegations of authority to officers and employees of NIH that were in effect immediately prior to the effective date of this reorganization and are consistent with this reorganization shall continue in effect in them or their successors, pending further redelegation.

Dated: September 28, 2007.
Raynard S. Kington,
Acting Director, National Institutes of Health.

[FR Doc. E7-19933 Filed 10-9-07; 8:45 am]

BILLING CODE 4140-01-P